DEPARTMENT OF DEFENSE

Office of the Secretary

Department of Defense Task Force on the Care, Management, and Transition of Recovering Wounded, Ill, and Injured Members of the Armed Forces

AGENCY: Office of the Assistant Secretary of Defense, Department of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces the following Federal Advisory Committee meeting of the Department of Defense Task Force on the Care, Management, and Transition of Recovering Wounded, Ill, and Injured Members of the Armed Forces (subsequently referred to as the Task Force).

DATES: Monday, June 10, 2013 from 8:00 a.m. to 5:30 p.m. EDT—Tuesday, June 11, 2013 from 8:00 a.m. to 5:15 p.m. EDT.

ADDRESSES: DoubleTree by Hilton Hotel Washington DC—Crystal City, 300 Army Navy Drive, Arlington, VA 22202.

FOR FURTHER INFORMATION CONTACT: Mail Delivery service through Recovering Warrior Task Force, Hoffman Building II, 200 Stovall St, Alexandria, VA 22332-0021 “Mark as Time Sensitive for June Meeting”. Emails to rwtf@wso.whs.mil. Denise F. Dailey, Designated Federal Officer; Telephone (703) 325-6640. Fax (703) 325-6710.

SUPPLEMENTARY INFORMATION: Purpose of the Meeting: The purpose of the meeting is for the Task Force Members to convene and develop recommendations for their FY 2013 annual report.

Agenda: (Refer to http://dtf.defense.gov/rwtf/meetings.html for the most up-to-date meeting information).

Day One: Monday, June 10, 2013

8:00 a.m.-9:30 a.m. Administrative/Review of Recommendations and DoD Implementation Plan

9:30 a.m.-9:45 a.m. Break

9:45 a.m.-10:30 a.m. Task Force Recommendation Development Review of Centers of Excellence

10:30 a.m.-11:45 a.m. Task Force Recommendation Development Review of Transition Outcomes, DoD/VA/Senior Oversight Committee Overall Coordination Between DoD and VA

11:45 a.m.-12:30 p.m. Break for Lunch

12:30 p.m.-1:45 p.m. Task Force Recommendation Development Review of Non-Medical Case Management

1:45 p.m.-2:00 p.m. Break

2:00 p.m.-3:00 p.m. Task Force Recommendation Development Review of Medical Care Case Management

3:00 p.m.-3:15 p.m. Break

3:15 p.m.-4:30 p.m. Task Force Recommendation Development Review of Services for PTSD&TBI

4:30 p.m.-5:15 p.m. Task Force Recommendation Development Review of Interagency Program Office

5:15 p.m.-5:30 p.m. Wrap Up

Day Two: Tuesday, June 11, 2013

8:00 a.m.-8:15 a.m. Administrative

8:15 a.m.-8:30 a.m. Public Forum

8:30 a.m.-9:45 a.m. Task Force Recommendation Developments Review of Support to Family Care Givers

9:45 a.m.-10:00 a.m. Break

10:00 a.m.-11:00 a.m. Task Force Recommendation Development Review of Information Resources

11:00 a.m.-11:15 a.m. Break

11:15 a.m.-12:30 p.m. Task Force Recommendation Development Review of Integrated Disability Evaluation System

12:30 p.m.-1:30 p.m. Break for Lunch

1:30 p.m.-2:30 p.m. Task Force Recommendation Development Review of Legal Support for IDES

2:30 p.m.-2:45 p.m. Break

2:45 p.m.-4:00 p.m. Task Force Recommendation Development Review of Resources for Reserve Components

4:00 p.m.-4:15 p.m. Break

4:15 p.m.-5:00 p.m. Task Force Recommendation Development Review of Vocational Training

5:00 p.m.-5:15 p.m. Wrap Up

Public's Accessibility to the Meeting: Pursuant to 5 U.S.C. 552b and 41 CFR 102-3.140 through 102-3.165, and the availability of space, this meeting is open to the public. Seating is on a first-come basis.

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum, a written statement for a presentation of two minutes must be submitted and it must be identified as being submitted for an oral presentation by the person making the submission. Identification information must be provided and, at a minimum, must include a name and a phone number. Individuals may visit the Task Force Web site at http://dtf.defense.gov/rwtf/ to view the Charter. Individuals making presentations will be notified by Wednesday, June 5, 2013. Oral presentations will be permitted only on Tuesday, June 11, 2013 from 8:15 a.m. to 8:30 a.m. EDT before the Task Force. The number of oral presentations will not exceed ten, with one minute of questions available to the Task Force members per presenter. Presenters should not exceed their two minutes.

Written statements in which the author does not wish to present orally may be submitted at any time or in response to the stated agenda of a planned meeting of the Department of Defense Task Force on the Care, Management, and Transition of Recovering Wounded, Ill, and Injured Members of the Armed Forces.

All written statements shall be submitted to the Designated Federal Officer for the Task Force through the information found in FOR FURTHER INFORMATION CONTACT, and this individual will ensure that the written statements are provided to the membership for their consideration.

Statements, either oral or written, being submitted in response to the agenda mentioned in this notice must be received by the Designated Federal Officer at the address listed in FOR FURTHER INFORMATION CONTACT no later than 5:00 p.m. EDT, Friday, May 31, 2013 which is the subject of this notice. Statements received after this date may not be provided to or considered by the Task Force until its next meeting. Please mark mail correspondence as “Time Sensitive for June Meeting.”

The Designated Federal Officer will review all timely submissions with the Task Force Co-Chairs and ensure they are provided to all members of the Task Force before the meeting that is the subject of this notice.

Reasonable accommodations will be made for those individuals with disabilities who request them. Requests for additional services should be directed to Ms. Heather Moore, (703) 325-6640, by 5:00 p.m. EDT, Friday, May 31, 2013.

Dated: May 10, 2013.
Aaron Siegel,
Alternate OSD Federal Register Liaison Officer, Department of Defense.

[FR Doc. 2013-11524 Filed 5-14-13; 8:45 am]

BILLING CODE 5001-06-P